FEDERAL COMMUNICATIONS COMMISSION

47 CFR Part 52

[WC Docket No. 18-336; FCC 19-128; FRS 16369]

Implementation of the National Suicide Hotline Improvement Act of 2018

AGENCY: Federal Communications Commission.

ACTION: Proposed rule.

SUMMARY: In this document, the Federal Communications Commission proposes to designate 988 as a simple, easy-to-remember, 3-digit dialing code for a national suicide prevention and mental health crisis hotline. We propose that all telecommunications carriers and interconnected VoIP providers be required to implement 988 in their networks within 18 months. We seek comment on these proposals and related issues, such as technical barriers to implementation and costs.

DATES: Comments are due on or before February 14, 2020, and reply comments are due on or before March 16, 2020.

ADDRESSES: You may submit comments, identified by WC Docket No. 18-336, by any of the following methods:

• Federal Communications Commission's Website: https://www.fcc.gov/ecfs/. Follow the instructions for submitting comments.

• Mail: Parties who choose to file by paper must file an original and one copy of each filing. If more than one docket or rulemaking number appears in the caption of this proceeding, filers must submit two additional copies for each additional docket or rulemaking number. Filings can be sent by hand or messenger delivery, by commercial overnight courier, or by first-class or overnight U.S. Postal Service mail. All filings must be addressed to the Commission's Secretary, Office of the Secretary, Federal Communications Commission. All hand-delivered or messenger-delivered paper filings for the Commission's Secretary must be delivered to FCC Headquarters at 445 12th St. SW, Room TW-A325, Washington, DC 20554. The filing hours are 8:00 a.m. to 7:00 p.m. All hand deliveries must be held together with rubber bands or fasteners. Any envelopes and boxes must be disposed of before entering the building. Commercial overnight mail (other than U.S. Postal Service Express Mail and Priority Mail) must be sent to 9050 Junction Drive, Annapolis Junction, MD 20701. U.S. Postal Service first-class, Express, and Priority mail must be addressed to 445 12th Street SW, Washington DC 20554.

• People with Disabilities: To request materials in accessible formats for people with disabilities (Braille, large print, electronic files, audio format), send an email to fcc504@fcc.gov or call the Consumer & Governmental Affairs Bureau at 202-418-0530 (voice), 202-418-0432 (tty).

For detailed instructions for submitting comments and additional information on the rulemaking process, see the SUPPLEMENTARY INFORMATION section of this document.

FOR FURTHER INFORMATION CONTACT: Michelle Sclater, Competition Policy Division, Wireline Competition Bureau, at (202) 418-0388, Michelle.Sclater@fcc.gov.

SUPPLEMENTARY INFORMATION: This is a summary of the Commission's Notice of Proposed Rulemaking (NPRM) in WC Docket No. 18-336, adopted on December 12, 2019 and released on December 16, 2019. The full text of the document is available at https://docs.fcc.gov/public/attachments/FCC-19-128A1.pdf. The full text is also available for public inspection during regular business hours in the FCC Reference Information Center, Portals II, 445 12th Street SW, Room CY-A257, Washington, DC 20554. To request materials in accessible formats for people with disabilities (e.g., braille, large print, electronic files, audio format, etc.) or to request reasonable accommodations (e.g., accessible format documents, sign language interpreters, CART, etc.), send an email to fcc504@fcc.gov or call the Consumer & Governmental Affairs Bureau at (202) 418-0530 (voice) or (202) 418-0432 (TTY).

Synopsis

I. Notice of Proposed Rulemaking

1. In this Notice of Proposed Rulemaking (NPRM), we propose to designate a 3-digit dialing code for a national suicide prevention and mental health crisis hotline, and we further propose to designate 988 as that code. We expect that designating 988 as the 3-digit dialing code will help increase the effectiveness of suicide prevention efforts, ease access to crisis services, reduce the stigma surrounding suicide and mental health conditions, and ultimately save lives.

2. We anticipate that designating 988 will support the efforts of our federal partners, SAMHSA and the VA, in their vitally important work in administering the Lifeline and the Veterans Crisis Line. To this end, we encourage interested stakeholders to work directly with SAMHSA, the VA, and Congress to foster collaboration and coordination of efforts to increase the overall effectiveness of the Lifeline, including any specialized hotline services for at-risk populations such as Veterans and LGBTQ youth.

A. Designating 988 as the 3-Digit Dialing Code for a National Suicide Prevention and Mental Health Crisis Hotline

3. We first propose to designate a 3-digit dialing code for a national suicide prevention and mental health crisis hotline. Based on the findings in the SAMHSA and VA Reports, we anticipate that the Lifeline would be more effective in preventing suicides and providing crisis intervention if it were accessible via a simple, easy-to-remember, 3-digit dialing code. For example, as SAMHSA explains, “[i]f a family member experiences severe chest pains in the company of another family member, both the patient and the family member, despite their heightened anxiety, would remember the number 911, while the concern is that many suicidal people or their family members at a similar moment of suicidal crisis might not remember 1-800-273-8255 (TALK).” And as Lines for Life has explained, “3-digit access” would “make it easier to connect people in need with help” and “deliver timely and effective crisis intervention services to millions of Americans.”

4. The record compiled for the FCC Staff Report supports the use of a dedicated 3-digit dialing code as a way to increase the effectiveness of suicide prevention efforts, ease access to crisis services, and reduce the stigma surrounding suicide and mental health conditions. Thus, we expect that designating a 3-digit code will ultimately increase the convenience and immediacy of access to a national suicide prevention and mental health crisis hotline system, help enhance public awareness of available suicide prevention and mental health crisis services, and support our federal partners by simplifying such access. We seek comment on this proposal.

5. We next propose to designate 988 as the 3-digit dialing code for a national suicide prevention and mental health crisis hotline system, and to require that all telecommunications carriers and interconnected VoIP providers transmit all calls initiated by an end user dialing 988 to the current toll free access number for the National Suicide Prevention Lifeline. We seek comment on this proposal. Additionally, how, if at all, should our proposal account for the fact that Americans, particularly younger Americans, increasingly rely on texting to communicate?

6. Designating 988 appears to provide the fastest, and therefore best, path to implementing a 3-digit code. First, using a unique 3-digit code obviates the need to age an existing N11 code and should therefore reduce the overall implementation timeline, allowing the Commission to bring this important national resource to the public years earlier than alternatives. Second, consumer education campaigns for a unique 3-digit code would be simpler and likely more effective than those necessary for repurposing or expanding use of an existing N11 code. Third, using a wholly unique 3-digit code would be less disruptive to existing users and service providers. In particular, several of the existing N11 codes discussed in the record are in heavy use and to expand or repurpose any one of these N11 codes would require significant work and resources. Fourth, using 988 is less technically complicated than using other unique 3-digit dialing codes. 988 “is not currently assigned as a geographic area code and therefore does not suffer the same problems surrounding repurposing an existing area code. Moreover, in order for a switch to detect a new 3-digit code, it helps if the code is not comprised of the leading digits (often called the “prefix”) of a local number. A United States telephone number consists of three basic parts: a three-digit Numbering Plan Area (known as the area code) NPA, a three-digit Central Office (CO) code (NXX), and a four-digit line number. In total, it is ten digits and contains two three-digit codes and a four-digit line number (e.g., (NPA) (NXX)-(XXXX)). And 988 has fewer corresponding central office code assignments across the U.S. than other codes the NANC considered, and thus would be less disruptive to adopt than those other codes. We seek comment on this proposal.

7. Turning to an evaluation of specific N11 options, we seek comment on the views of SAMHSA and other commenters in the record who assert that expanding 211 would reduce the quality of and overburden the current capacity of crisis or community services offered, resulting in increased hold times and delayed crisis intervention, and create confusion as to the purpose of the dialing code. We seek comment on the view, as explained in the FCC Staff Report, that repurposing 511 would endanger public safety because states and localities use 511 to enable drivers to receive information on road conditions during emergencies and information pertaining to AMBER and other public safety-related alerts. We also seek comment on whether repurposing 511 would require states and localities to remove or replace roadway signage across the country that advertises 511 as a local travel information line, which could lengthen the timeline for implementation, and risk creating public confusion. We seek comment on the view of the FCC Staff Report that repurposing 611—an N11 code that receives at least 297 million calls annually—could result in a crisis hotline being flooded with misdirected calls, creating confusion and delay, and risking loss of life if a caller in need could not reach a counselor quickly. And we seek comment on the findings in the FCC Staff Report that expanding or repurposing any of the other N11 codes—311 (used for non-emergency police services), 411 (used for directory assistance services), 711 (used by persons with hearing or speech disabilities to make or receive telephone calls), 811 (used for notice of excavation activities), and 911 (used for emergency response)—is not feasible and/or desirable. We note that repurposing 811 would require legislative changes and, more importantly, could have significant implications for pipeline safety. Using any N11 code would appear to significantly delay implementation of a 3-digit dialing code for a national suicide prevention and mental health crisis hotline because each of these N11 codes is widely used. Moreover, repurposing one of these N11 codes would eliminate the current and important purpose of the code. We seek comment on these views.

8. In proposing to designate 988, we agree with the findings in the FCC Staff Report that the technical and operational issues associated with implementing 988 can be addressed more quickly than the time needed to repurpose an existing N11 code. In particular, we find that, as telephone companies have been upgrading their networks to IP, the vast majority of switches in the U.S. can accommodate 988 and the relatively small percentage of legacy switches that cannot currently support this code can be upgraded more easily and quickly than conducting the re-education efforts necessary to repurpose an existing N11 code. We seek comment on these views and on any other challenges of designating a 3-digit dialing code for the national suicide prevention and mental health crisis hotline of (and designating 988 in particular) and ways to mitigate them. Are there alternative proposals that would allow for implementation of a three-digit dialing code on a faster or otherwise more efficient timeline?

9. Legal Authority. Section 251(e)(1) of the Act gives the Commission “exclusive jurisdiction over those portions of the North American Numbering Plan that pertain to the United States” and provides that numbers must be made “available on an equitable basis.” Pursuant to this provision, the Commission retains “authority to set policy with respect to all facets of numbering administration in the United States.” The Commission's exclusive jurisdiction over numbering policy enables the Commission to act flexibly and expeditiously on important numbering matters.

10. We believe that this authority allows us to designate 988 as the 3-digit dialing code for a national suicide and mental health crisis hotline system and to require providers of telecommunications and interconnected VoIP services to take appropriate and timely action to implement this designation. The Commission has previously concluded that its numbering authority allows it to extend numbering-related requirements to interconnected VoIP providers that use telephone numbers. As the Commission has explained, “the obligation to ensure that numbers are available on an equitable basis is reasonably understood to include not only how numbers are made available but to whom, and on what terms and conditions. Thus, we conclude that the Commission has authority under section 251(e)(1) to extend to interconnected VoIP providers both the rights and obligations associated with using telephone numbers.” We further believe that taking these steps will help to ensure that all Americans can receive efficient, swift access to, and reap the benefits of, critical suicide prevention and crisis services offered through the Lifeline. We seek comment on these views. Are there other sources of legal authority for this proposal?

B. Implementing 988 as the 3-Digit Dialing Code for a National Suicide Prevention and Mental Health Crisis Hotline

11. As the FCC Staff Report recognizes, “suicide does not discriminate by geographic region, and to be effective, any code designated for a national suicide and mental health crisis hotline must be ubiquitously deployed.” To that end, we propose requiring that all telecommunications carriers and interconnected VoIP providers implement 988 by transmitting all calls initiated by an end user dialing 988 to the current toll free access number for the Lifeline. We specifically seek comment on including one-way interconnected VoIP providers as well. Our proposed requirement would thus apply to those providers that access the public switched telephone network on an interconnected basis to reach all Americans. We seek comment on our proposal. Should we apply the requirements we adopt to a different set of entities and, if so, what set of entities and why?

12. Software and Equipment Updates. We recognize that in order to implement 988, telecommunications carriers and interconnected VoIP providers must make changes to their networks and institute new dialing requirements in certain circumstances. In particular, we recognize that certain legacy switches will require upgrades. The NANC has identified seven switch types that cannot support a new wholly unique 3-digit dialing code. Based on the legacy switch types identified by the NANC, Commission staff estimate that a little over 6,000 switches and remotes, or approximately 12% of the 50,615 switches and remotes listed in the April 2019 edition of the Local Exchange Routing Guide (LERG), cannot currently support 988 and would need to be upgraded. Of those, about 4,750 switches are DMS-10, EWSD, and DCO (e.g., Nortel and Siemens) switch types. Some of these may have a direct upgrade path to IP, which we expect would enable use of 988 as a 3-digit dialing code at a relatively low cost per switch upgrade. However, approximately 1,400 switches may not have a clear upgrade path, necessitating that they be replaced. We seek comment on these estimates.

13. Depending on the type of switch currently used, implementation of 988 may require that providers take a number of steps to update their networks, which may include: Acquiring and installing new equipment; developing and testing software to implement 988; assigning 988 in the switch translations dialing plan to prevent other uses for that code; ensuring that switch routing elements correctly route 988; training staff; and deploying new software, such as adding logic to internal automated systems to implement any updates. After upgrading and replacing switches, vendors will then need to perform network translation changes and monitor network operations. We seek comment on these and any other implementation steps. Are there trunking and/or network capacity requirements that carriers and providers would need to address in order to carry the expected increase in suicide hotline calls? Are there other implementation steps that will be necessary? We also ask commenters, particularly service providers, to provide information on the most expeditious and effective path toward achieving ubiquitous deployment of 988 across all networks.

14. 988 Call Routing. We propose requiring telecommunications carriers and interconnected VoIP providers to route 988 calls to 1-800-273-8255 (TALK), the current toll free access number for the Lifeline and the Veterans Crisis Line. Doing so appears to provide the most efficient means to establish 988 as a national suicide prevention hotline. We seek comment on this proposal.

15. Whether to route calls to a central destination or to localized call centers will affect the 988 implementation timeline and cost. Because it offers a streamlined approach using existing infrastructure, we believe our proposal is likely to be faster and more cost effective than the alternatives of either setting up a new routing database or entering local translations, as is used for 911 calls, which are routed via a direct local translation to a 10-digit number of a local police station or Public Safety Answering Point (PSAP) based on the location of the calling number. The NANC concluded that, for service providers, routing calls is likely to be “more efficient if the call is terminated to a national or centralized call center as opposed to a local or decentralized call center network.” The toll free access number for the Lifeline, 1-800-273-8255 (TALK), is a national call center that currently serves to route calls to local crisis centers across the country. We expect that routing calls to 1-800-273-8255 (TALK) will be more efficient than establishing a new call center to perform the same functions, or requiring direct local translations for each local crisis center. We seek comment on this analysis.

16. Further, service provider routing of 988 calls to 1-800-273-8255 (TALK), rather than localized call centers, may facilitate access to the Lifeline and the Veterans Crisis Line by reducing the likelihood that calls will be misdirected following any changes to the local crisis center network. If the Lifeline were to add new call centers or consolidate existing call centers, for example, routing changes could be implemented by updating the centralized 800 translations service and thereby avoid having to reprogram local switches, which if done improperly, could result in misdirected calls. We seek comment on this view, on other benefits of this call routing proposal, and on the impact this proposal would have on the effectiveness of the Lifeline and Veterans Crisis Line once 988 is implemented. For example, would it impact the ability of the Lifeline to route calls to the closest local crisis center, as the Lifeline does currently? Would our proposal affect the operations of the Veterans Crisis Line? Are there other models that would provide better functionality to users of the hotline? We also seek comment on whether SAMHSA or the VA and/or the existing national network of crisis centers that currently comprise the Lifeline and the Veterans Crisis Line will need to make changes to accommodate this proposal, and the length of time and costs that such changes will entail.

17. We seek comment on any drawbacks or costs associated with this proposal. TGM Consulting, for example, cautions that some TDM switches may only be able to translate a code like 988 into a local or geographic number. Is this accurate and, if so, how many such switches are in use today and what would be required to upgrade them? Should we carve out an exemption for such switches and require them instead to route 988 calls to a geographic number? Are there other solutions that would allow these switches to direct 988 calls to 1-800-273-8255 (TALK)? We seek comment on any other issues related to this proposed call routing approach.

18. In the alternative, we seek comment on requiring service providers to route 988 calls directly to a local Lifeline or Veterans Crisis Line call center rather than to 1-800-273-8255 (TALK). In seeking comment on this alternative approach, we note that 1-800-273-8255 (TALK) currently provides access to both the Lifeline and the Veterans Crisis Line. How would this functionality be maintained under a direct routing approach? Would the Lifeline still be able to route calls to a backup center, as is currently done if a local crisis center experiences a service disruption or excessive call volume? How, if at all, would this alternative approach affect access to the Lifeline and Veterans Crisis Line? In this scenario, would routing databases need to be created to route 988 calls to such numbers? If so, what would such databases offer and who would own, maintain, and distribute such databases? How would this impact our proposed timeline and costs for implementation? What are the challenges in routing 988 calls directly to a local or regional crisis center as opposed to a single toll free number? Would such an approach offer any benefits over our proposal? We seek comment on these and any other relevant issues.

19. Dialing in Certain Geographic Areas. We next seek comment on how to address areas that both use 7-digit dialing and where 988 is in use as an NXX code. In such areas, a switch would need to distinguish between calls made to the suicide prevention and mental health crisis hotline and the assigned 988 central office code. Commission staff analysis of NANPA data shows that as of September 2019, there are 95 area codes that both still use 7-digit dialing and have assigned 988 as an NXX prefix. The number 95 is arrived at by looking at how many NPAs use 988 (a total of 178) and then seeing which of those are located in a 7-digit dialing area code. We seek comment on whether this is an accurate estimate of area codes that would need to implement a solution.

20. One solution is the introduction of a dialing delay after 988 is entered—the switch would recognize that the caller is dialing 988 rather than a local 988-XXXX number when no digits are entered after 988. The downside with such an approach, as the NANC has noted, is that such a dialing delay “could result in the caller terminating the call because he thinks the call failed, or [result in] unrelated calls being routed to the hotline when a 7-digit number is dialed too slowly.” We seek comment on this and any other potential concerns with this approach.

21. Alternatively, requiring 10-digit dialing would enable the switches to distinguish between calls made to the national suicide prevention hotline system and those made to a number beginning with a 988 prefix. With 10-digit dialing, a caller must first input the 3-digit area code before entering a 7-digit number. Thus, an individual attempting to call a 988-XXXX number would first have to input the area code (i.e., XXX-988-XXXX), avoiding the problem of calling the hotline in error.

22. We seek comment on whether the Commission should mandate one particular solution as part of our designation and implementation of 988. The Commission has mandated 10-digit dialing in cases of area-code relief, which involves establishing a new area code for a geographic region after the existing area code runs out of NXX prefixes. And any transition to 10-digit dialing could likely be achieved in parallel within the other work to implement 988 and that the transition, based on previous conversions from 7 to 10-digit dialing, can be completed within a year. Indeed, in the last decade, states such as Connecticut and Nebraska moved to mandatory 10-digit dialing within a period of one year. Should we require states to transition to 10-digit dialing in areas where the 988 exchange has been assigned as an NXX prefix in area codes that still have 7-digit dialing, as the Commission has done for area-code-relief implementation? Alternatively, should we leave it to state commissions to decide whether to mandate 10-digit dialing rather than a dialing delay for any given area code?

23. Timeframe. We propose that all telecommunications carriers and interconnected VoIP providers be required to implement 988 in their networks within 18 months. We believe this timeframe would provide sufficient time for providers to make any necessary changes to equipment and software, and to institute new dialing requirements, if necessary. To begin with, we understand that modern IP switches can already accommodate 988 today or do so with minor software updates. In this regard, we observe that most providers are already actively upgrading their equipment to IP technology given the technological advances in the marketplace and the advanced services that consumers are demanding. Moreover, we believe that 18 months is sufficient time to upgrade the approximately 12% of legacy switches that will need such upgrades and we anticipate that the majority of technical upgrades necessary to switches and systems can be done in parallel with other work to implement 988. We seek comment on this proposal.

24. Alternatively, should we adopt a shorter or longer timeframe for implementation such as one year or two years, and if so, why? Should the Commission consider the size of a carrier's network, including the need to simultaneously replace multiple legacy switches, when determining the appropriate implementation timeline? Further, does the use of legacy switch technology warrant a phased-in approach and, if so, how should that be implemented? Are there risks associated with such an approach (e.g., confusion among the public regarding the availability of 988)? Would such an approach inappropriately reward carriers that have not invested in their networks to prepare for the IP transition in a timely manner? How many such switches reside on the networks of rural local exchange carriers, if any, and what unique barriers would such carriers face in implementing 988 in a timely manner? Are there other challenges that service providers may face that we should consider in determining the appropriate timeframe for implementation?

25. Costs. We propose that all providers bear their own costs for executing the upgrades necessary to be able to implement 988 as a 3-digit code for a national suicide prevention and mental health crisis hotline. This approach encourages efficiency in implementation and avoids unnecessary administrative costs. In turn, section 251(e)(2) of the Act states that “[t]he cost of establishing telecommunications numbering administration arrangements and number portability shall be borne by all telecommunications carriers on a competitively neutral basis.” The Commission is only required to apply section 251(e)(2) in situations involving some type of numbering administration arrangement, where for instance, the Commission hires a third party to develop a database for industry use. Here, that circumstance is not present. Therefore, we believe the section 251(e)(2) requirements do not apply. Even if section 251(e)(2) applies, we believe it is satisfied if we require each provider to bear its own costs because each provider's costs will be proportional to the size and quality of its network. We seek comment on this proposal.

C. Assessing the Benefits and Costs of Designating and Implementing 988

26. We expect that designation and implementation of 988 as a simple, easy-to-remember 3-digit dialing code nationwide will increase the convenience and immediacy of access to life-saving suicide prevention and mental health crisis services. By becoming a part of the existing framework of the Lifeline and Veterans Crisis Line, we expect that the 988 dialing code will “make it easier for Americans in crisis to access potentially life-saving resources.”

27. In the FCC Staff Report, Commission staff conducted a cost-benefit analysis of designating 988 as the 3-digit dialing code for a national suicide prevention and mental health crisis hotline. The cost-benefit analysis used information from the NANC, SAMHSA, the VA, and publicly available data. Commission staff estimated the total costs for the first year at $570 million, costs for the second year at approximately $175 million, and subsequent years at approximately $50 million annually. In estimating the benefits of the 3-digit dialing code, the analysis used the Department of Transportation's Value of a Statistical Life. Staff determined that if the 3-digit code were to reduce suicide mortality risk by a fraction of one percent, it would be well worth its cost. We acknowledge the difficulty in attempting to quantify the value of mortality reductions and use Value of a Statistical Life only as a practical approach to conducting this necessary analysis. Based on this analysis, Commission staff concluded that the benefits of designating 988 as the dialing code for a national suicide prevention and mental health crisis hotline outweighed the costs. While the FCC Staff Report took a broad view and accounted for costs that may be incurred by a variety of entities from service providers to crisis centers, here we focus on the costs and benefits of our proposed rules to require covered providers to implement 988.

28. If the new 988 dialing code can deter one of every thousand Americans who would otherwise attempt suicide from harming themselves—a 0.1% reduction in suicides and suicide attempts—we expect the estimated benefit of $2.4 billion in present value over the course of ten years will exceed the estimated, one-time $367 million in present value implementation cost to service providers. As discussed below, the estimated costs that service providers will incur due to implementation include $300 million for upgrading and replacing switches and $92.5 million for translation updates. For simplicity, we assume the total estimated cost of $392.5 million will be incurred one year into the future (rather than incurred throughout the 18-month transition period) and then discount back to the present day using a discount rate of 7%. The discounted value is equal to $367 million ($392.5 million/1.07 = $367 million). If providers choose to pass these costs on to customers, we expect any increased costs to consumers to be minimal, and we believe that this potential added cost is worth the benefit. We seek comment on this preliminary conclusion that benefits surpass costs and the estimation methods described below.

29. Estimated Benefits of Implementing 988. The Lifeline and the Veterans Crisis Line provide proven, effective intervention services for Americans in crisis. We anticipate that integrating the 988 dialing code within this existing framework will allow callers to continue to benefit from experienced counselors, while also expanding access with the availability of a simple, easily remembered number to dial for those in need. Both the Lifeline and the Veterans Crisis Line have seen increased call volumes since their inception. SAMHSA reports that calls to the Lifeline more than doubled over a 5-year period—from under 1 million in 2012 to over 2 million in 2017—and expects the number of calls to continue to increase. Similarly, the call volume to the Veterans Crisis Line has increased from just under 500,000 calls in fiscal year 2014 to over 700,000 in fiscal year 2017—an increase of more than 40% in three years.

30. Studies have found that access to crisis counselors helps reduce suicides. A recent SAMHSA-funded study found that for crisis-center callers at imminent risk of committing suicide, counselors and callers were able to cooperatively reduce the risk of suicide without police or ambulance services in 55% of calls, counselors sent emergency responders with the caller's cooperation in 19.1% of the cases, and counselors sent emergency services without collaboration for the remaining 25.9% of calls. Studies of suicidal-caller survey responses in the UK found reductions as large as 25% in callers wanting to self-harm after speaking with hotline counselors. By facilitating access to crisis counselors, the 988 dialing code would likely help further reduce suicides.

31. Estimating a precise reduction in suicide incidence, however, is difficult. The alternative is to evaluate plausible suicide-reduction scenarios. In 2017, 47,000 Americans committed suicide, while more than 1.4 million American adults attempted suicide. If the implementation of 988 results in greater access to a nationwide network of suicide prevention and mental health services—in the way adopting 911 transformed emergency services provision—suicides may drop by 10% or more, saving at least 4,700 lives a year. Due to the lack of before-and-after statistics, the transformative impact of 911 on emergency service provision is difficult to capture in a snapshot; nevertheless, emergency response has dramatically improved. Ambulance, fire, police, and poison control centers have coalesced around 911 to dispatch the appropriate emergency service in response to one 3-digit call. Each minute saved in the sequence of recalling, dialing, and dispatching emergency services reduces response times, which saves lives. Commission staff estimated that a one-minute reduction in emergency response time saves 10,120 lives annually. A more modest decline in suicides of 1% would save 470 lives a year. A marginal decline of 0.1% would save 47 lives a year. Multiplying suicides prevented by the value of mortality reduction last used by the Commission (i.e., the value of a statistical life (VSL)) yields a range of annual benefits corresponding to the suicide reductions achieved (see Table 2):

Table 2—Estimated Annual Benefits From Suicide Reductions
VSL 2018 | 10% suicide reduction | 1% suicide reduction | 0.1% suicide reduction
$9.6 million | $45.1 billion (4,700 * $9.6 million) | $4.51 billion (470 * $9.6 million) | $451 million (47 * $9.6 million).

32. We propose applying the most conservative assumption of a 0.1% reduction in suicides and estimating total annual benefits of implementing our 988 dialing code proposal to be $451 million. Conservatively assuming the annual benefits of our actions do not accrue until the start of the third year of our action (to account both for a technical transition and a consumer education campaign) and looking out up to ten years, we estimate the present value of the total benefits from implementing a 988 dialing code to be $2.4 billion. We seek comment on this estimate. This calculation discounts the annual benefits for each of the eight years (from three to ten years in the future) back to the present using a discount rate of 7%. If, instead, a 3% discount rate is used, the estimated benefits are $3 billion. Benefits under the 3% discount rate exceed the estimated discounted costs of $381 million.

33. Are there alternative methods of estimation that we should consider? What historic and more recent data sources, if any, are available? We seek comment on the benefits of facilitating access to the existing Lifeline and Veterans Crisis Line structure. We also seek comment on the benefits of facilitating access to the Lifeline should additional hotline services targeted at at-risk populations like LGBTQ youth be added. For example, what are the benefits if a new interactive voice response menu option is pursued or if other specialized training for call takers to handle LGBTQ youth calls or calls from other at-risk populations becomes the norm? We also seek comment on other benefits of implementing 988, such as savings in emergency responder costs, and the dollar value of these additional benefits.

34. Estimated Costs Incurred by Service Providers. To implement 988 as the 3-digit dialing code, service providers must incur certain one-time monetary outlays to make updates to switches and replace legacy equipment. First, as noted by the NANC, “every originating switch in the United States and its territories would require translation updates.” The NANC Report estimates these necessary updates will result in a one-time cost to service providers of approximately $92.5 million. The NANC arrived at this figure by multiplying the total number of dial plan changes (550,812) by the estimated time per dial plan change (1.6 hours), then multiplying that product by the hourly Telecommunications Engineering Contract rate of $105. We seek comment on the accuracy of the $92.5 million estimate for switching translation costs. We believe there are no recurring costs associated with implementation of 988 and we seek comment on this assumption.

35. Second, the NANC Report notes “some wireline switches may be unable to support any new 3-digit dialing code that is not an N11 code.” Those switches unable to process 988 must be upgraded or replaced. In the FCC Staff Report, Commission staff estimated switch upgrades and replacements will result in a one-time costs to service providers of approximately $300 million. We seek comment on this estimate. For the approximately 4,750 switches with a direct upgrade path to IP, we expect a relatively low cost of approximately $30,000 per switch. We estimate an average per switch replacement cost of $100,000 for the approximately 1,400 switches without a clear upgrade path. Upgrading or replacing all switches, therefore, would cost ($100,000 × 1,400 full upgrades =) $140 million and ($30,000 × 4,750 field upgrades =) $142.5 million, for a total cost of $282.5 million which we round up to $300 million. Commission staff estimate that a little over 6,000 switches and remotes listed in the April 2019 edition of the LERG cannot support 988. We seek comment on the accuracy of the estimate of the number of switches and remotes that cannot support 988. Is this estimate correct? If not, what is the correct number? Is $300 million over 18 months a reasonable estimate for the cost of replacing these legacy switches? What is the remaining useful life of these switches? Does the replacement cost change with our timeline for implementing 988? We recognize that some providers do not want to upgrade existing switches prior to the end of their life-cycle. However, we anticipate that upgrades to legacy switches will have significant offsetting benefits beyond the immediate context of this proceeding, such as providing consumers with the benefits of more advanced, IP-based services as well as new business opportunities for providers. How should we account for those benefits in calculating the actual cost of upgrading these networks?

36. The NANC Report mentions other possible costs of implementing 988 without offering specific estimates. For example, the NANC Report notes that 988 implementation costs will vary if calls are routed directly to a national or centralized call center or to a local or regional call center. We seek comment on routing costs. If service providers route 988 calls to 1-800-273-8255 (TALK), what are the costs associated with such routing? How do such costs compare to other alternatives, such as routing to a local or regional call center? We seek comment on the types and amounts of any other implementation costs to service providers. Such implementation costs could include cell site reprogramming cited in the Suicide Hotline Improvement Act, Sec. 3(b)(2)(i)(II). In the FCC Staff Report, staff estimated in response to Sec. 3(b)(2)(i)(II) that approximately $50 million in additional annual funding would be needed to handle additional calls and that would be covered by federal, state, and local governments. In this regard, we caution commenters that we do not intend to consider benefits or costs that may be important to the Lifeline or the Veteran's Crisis Line as a whole but fall outside of the Commission's specific numbering oversight role, such as those related to advertising or educational outreach to increase the public's awareness of the availability of 988.

37. To accommodate 988, areas currently using seven-digit dialing will need to either transition to 10-digit dialing or implement post-dial delay. What are the costs and benefits of these solutions?

38. In sum, we believe that designating 988 as the national suicide prevention and mental health hotline dialing code will facilitate access to life-saving suicide prevention services. We further believe that reductions in suicides and suicide attempts will result in estimated benefits of $2.4 billion in present value over the course of ten years, exceeding the estimated one-time implementation cost to service providers of $367 million in present value, and that the proposals in this Notice complement ongoing efforts to deter suicide and provide support to Americans in crisis. We seek comment on our analysis and on the costs and benefits of any alternative proposals.

II. Initial Regulatory Flexibility Analysis

39. As required by the Regulatory Flexibility Act of 1980, as amended (RFA), the Commission has prepared this Initial Regulatory Flexibility Analysis (IRFA) of the possible significant economic impact on small entities by the policies and rules proposed in this Notice of Proposed Rulemaking (Notice). The Commission requests written public comments on this IRFA. Comments must be identified as responses to the IRFA and must be filed by the deadlines for comments provided on the first page of the Notice. The Commission will send a copy of the Notice, including this IRFA, to the Chief Counsel for Advocacy of the Small Business Administration (SBA). In addition, the Notice and IRFA (or summaries thereof) will be published in the Federal Register.

A. Need for, and Objectives of, the Proposed Rules

40. Pursuant to the National Suicide Hotline Improvement Act of 2018 (Suicide Hotline Improvement Act), the Notice proposes to designate a 3-digit dialing code for a national suicide and mental health crisis hotline system, and also proposes to designate 988, specifically, as the 3-digit dialing code to be used. The Notice also proposes to require that, within 18 months, all telecommunications carriers and interconnected VoIP service providers transmit calls initiated by dialing 988 to the current toll free access number for the National Suicide Prevention Lifeline. The Notice seeks comment on all of these proposals, and also seeks comment on issues pertaining to ubiquitous nationwide deployment of 988, including whether we should mandate a 10-digit dialing code in places where 988 exchange has been assigned in area codes that still have seven-digit dialing, or nationwide; on our proposal that service providers route 988 calls to 1-800-273-8255 (TALK); on various other technical considerations associated with use of 988 as a 3-digit dialing code; and on the costs and benefits to implementing 988.

41. The Commission believes that the proposals in the Notice to designate 988 as the 3-digit dialing code for a national suicide and mental health crisis hotline system will help increase the effectiveness of suicide prevention efforts, help enhance public awareness of available suicide prevention and mental health crises services, ease access to crisis services, support our federal partners by simplifying such access, and reduce the stigma surrounding suicide and mental health conditions.

B. Legal Basis

42. The Suicide Hotline Improvement Act tasks the Commission with examining the effectiveness of the current National Suicide Prevention Lifeline and the feasibility of designating a 3-digit dialing code to be used for a national suicide prevention and mental health crisis hotline system. Section 251(e)(1) of the Communications Act, as amended, gives the Commission “exclusive jurisdiction over those portions of the North American Numbering Plan that pertain to the United States” and provides that numbers must be made “available on an equitable basis.” The Commission proposes that this authority allows it to designate 988 as the 3-digit dialing code for a national suicide and mental health crisis hotline system, and to require providers of telecommunications and interconnected Voice over internet Protocol (VoIP) services to take appropriate and timely action to implement this requirement.

C. Description and Estimate of the Number of Small Entities to Which the Proposed Rules Will Apply

43. The RFA directs agencies to provide a description of and, where feasible, an estimate of the number of small entities that may be affected by the proposed rules and by the rule revisions on which the Notice seeks comment, if adopted. The RFA generally defines the term “small entity” as having the same meaning as the terms “small business,” “small organization,” and “small governmental jurisdiction.” In addition, the term “small business” has the same meaning as the term “small-business concern” under the Small Business Act. A “small-business concern” is one which: (1) Is independently owned and operated; (2) is not dominant in its field of operation; and (3) satisfies any additional criteria established by the SBA.

44. Small Businesses, Small Organizations, Small Governmental Jurisdictions. Our actions, over time, may affect small entities that are not easily categorized at present. We therefore describe here, at the outset, three broad groups of small entities that could be directly affected herein. First, while there are industry-specific size standards for small businesses that are used in the regulatory-flexibility analysis, according to data from the SBA's Office of Advocacy, a small business in general is an independent business having fewer than 500 employees. These types of small businesses represent 99.9% of all businesses in the United States, which translates to 30.2 million businesses.

45. Next, the type of small entity described as a “small organization” is generally “any not-for-profit enterprise which is independently owned and operated and is not dominant in its field . . . .” Nationwide, as of March 2019, there were approximately 356,494 small organizations based on registration and tax data filed by nonprofits with the Internal Revenue Service (IRS).

46. Finally, the small entity described as a “small governmental jurisdiction” is defined generally as “governments of cities, counties, towns, townships, villages, school districts, or special districts, with a population of less than fifty thousand.” U.S. Census Bureau data from the 2012 Census of Governments indicates that there were 90,056 local governmental jurisdictions consisting of general purpose governments and special purpose governments in the United States. Of this number, there were 37,132 general purpose governments (county, municipal, and town or township) with populations of less than 50,000, and 12,184 special-purpose governments (independent school districts and special districts) with populations of less than 50,000. The 2012 U.S. Census Bureau data for most types of governments in the local government category shows that a majority these governments have populations of less than 50,000. Based on this data, we estimate that at least 49,316 local-government jurisdictions fall in the category of “small governmental jurisdictions.”

47. Wired Telecommunications Carriers. The U.S. Census Bureau defines this industry as “establishments primarily engaged in operating and/or providing access to transmission facilities and infrastructure that they own and/or lease for the transmission of voice, data, text, sound, and video using wired communications networks. Transmission facilities may be based on a single technology or a combination of technologies. Establishments in this industry use the wired telecommunications network facilities that they operate to provide a variety of services, such as wired telephony services, including VoIP services, wired (cable) audio and video programming distribution, and wired broadband internet services. By exception, establishments providing satellite television distribution services using facilities and infrastructure that they operate are included in this industry.” The SBA has developed a small-business size standard for Wired Telecommunications Carriers, which consists of all such companies having 1,500 or fewer employees. Census data for 2012 shows that there were 3,117 firms that operated that year and that of this total, 3,083 operated with fewer than 1,000 employees. Thus, under this size standard, the majority of firms in this industry can be considered small.

48. Local Exchange Carriers (LECs). Neither the Commission nor the SBA has developed a size standard for small businesses specifically applicable to local exchange services. The closest applicable NAICS Code category is Wired Telecommunications Carriers. Under the applicable SBA size standard, such a business is small if it has 1,500 or fewer employees. U.S. Census Bureau data for 2012 shows that 3,117 firms operated for the entire year. Of that total, 3,083 operated with fewer than 1,000 employees. Thus under this category and the associated size standard, the Commission estimates that the majority of local exchange carriers are small entities.

49. Incumbent LECs. Neither the Commission nor the SBA has developed a small-business size standard specifically for incumbent local exchange services. The closest applicable NAICS Code category is Wired Telecommunications Carriers. Under the applicable SBA size standard, such a business is small if it has 1,500 or fewer employees. U.S. Census Bureau data for 2012 indicates that 3,117 firms operated the entire year. Of this total, 3,083 operated with fewer than 1,000 employees. Consequently, the Commission estimates that most providers of incumbent local exchange service are small businesses that may be affected by our actions. According to Commission data, 1,307 Incumbent Local Exchange Carriers reported that they were incumbent local exchange service providers. Of this total, an estimated 1,006 have 1,500 or fewer employees. Thus, using the SBA's size standard, the majority of incumbent LECs can be considered small entities.

50. Competitive Local Exchange Carriers (Competitive LECs), Competitive Access Providers (CAPs), Shared-Tenant Service Providers, and Other Local Service Providers. Neither the Commission nor the SBA has developed a small-business size standard specifically for these service providers. The most appropriate NAICS Code category is Wired Telecommunications Carriers. Under that size standard, such a business is small if it has 1,500 or fewer employees. U.S. Census Bureau data for 2012 indicate that 3,117 firms operated during that year. Of that number, 3,083 operated with fewer than 1,000 employees. Based on these data, the Commission concludes that the majority of Competitive LECS, CAPs, Shared-Tenant Service Providers, and Other Local Service Providers are small entities. According to Commission data, 1,442 carriers reported that they were engaged in the provision of either competitive local exchange services or competitive access provider services. Of these 1,442 carriers, an estimated 1,256 have 1,500 or fewer employees. In addition, 17 carriers have reported that they are Shared-Tenant Service Providers, and all 17 are estimated to have 1,500 or fewer employees. Additionally, 72 carriers have reported that they are Other Local Service Providers. Of this total, 70 have 1,500 or fewer employees. Consequently, based on internally researched FCC data, the Commission estimates that most providers of competitive local exchange service, competitive access providers, Shared-Tenant Service Providers, and Other Local Service Providers are small entities.

51. We have included small incumbent LECs in this present RFA analysis. As noted above, a “small business” under the RFA is one that, inter alia, meets the pertinent small-business size standard (e.g., a telephone communications business having 1,500 or fewer employees) and “is not dominant in its field of operation.” The SBA's Office of Advocacy contends that, for RFA purposes, small incumbent LECs are not dominant in their field of operation because any such dominance is not “national” in scope. We have therefore included small incumbent LECs in this RFA analysis, although we emphasize that this RFA action has no effect on Commission analyses and determinations in other, non-RFA contexts.

52. Interexchange Carriers (IXCs). Neither the Commission nor the SBA has developed a definition for Interexchange Carriers. The closest NAICS Code category is Wired Telecommunications Carriers. The applicable size standard under SBA rules is that such a business is small if it has 1,500 or fewer employees. U.S. Census Bureau data for 2012 indicate that 3,117 firms operated for the entire year. Of that number, 3,083 operated with fewer than 1,000 employees. According to internally developed Commission data, 359 companies reported that their primary telecommunications service activity was the provision of interexchange services. Of this total, an estimated 317 have 1,500 or fewer employees. Consequently, the Commission estimates that the majority of interexchange service providers are small entities.

53. Local Resellers. The SBA has developed a small-business size standard for Telecommunications Resellers that includes Local Resellers. The Telecommunications Resellers industry comprises establishments engaged in purchasing access and network capacity from owners and operators of telecommunications networks and reselling wired and wireless telecommunications services (except satellite) to businesses and households. Establishments in this industry resell telecommunications; they do not operate transmission facilities and infrastructure. Mobile virtual network operators (MVNOs) are included in this industry. Under the SBA's size standard, such a business is small if it has 1,500 or fewer employees. U.S. Census Bureau data for 2012 shows that 1,341 firms provided resale services during that year. Of that number, all operated with fewer than 1,000 employees. Thus, under this category and the associated small-business size standard, the majority of these resellers can be considered small entities. According to Commission data, 213 carriers have reported that they are engaged in the provision of local resale services. Of these, an estimated 211 have 1,500 or fewer employees. Consequently, the Commission estimates that the majority of Local Resellers are small entities.

54. Toll Resellers. The Commission has not developed a definition for Toll Resellers. The closest NAICS Code category is Telecommunications Resellers. The Telecommunications Resellers industry comprises establishments engaged in purchasing access and network capacity from owners and operators of telecommunications networks and reselling wired and wireless telecommunications services (except satellite) to businesses and households. Establishments in this industry resell telecommunications; they do not operate transmission facilities and infrastructure. Mobile virtual network operators (MVNOs) are included in this industry. The SBA has developed a small-business size standard for the category of Telecommunications Resellers. Under that size standard, such a business is small if it has 1,500 or fewer employees. Census data for 2012 shows that 1,341 firms provided resale services during that year. Of that number, 1,341 operated with fewer than 1,000 employees. Thus, under this category and the associated small-business size standard, the majority of these resellers can be considered small entities. According to Commission data, 881 carriers have reported that they are engaged in the provision of toll resale services. Of this total, an estimated 857 have 1,500 or fewer employees. Consequently, the Commission estimates that the majority of toll resellers are small entities.

55. Other Toll Carriers. Neither the Commission nor the SBA has developed a definition for small businesses specifically applicable to Other Toll Carriers. This category includes toll carriers that do not fall within the categories of interexchange carriers, operator service providers, prepaid calling card providers, satellite service carriers, or toll resellers. The closest applicable NAICS Code category is for Wired Telecommunications Carriers as defined above. Under the applicable SBA size standard, such a business is small if it has 1,500 or fewer employees. Census data for 2012 shows that there were 3,117 firms that operated that year. Of this total, 3,083 operated with fewer than 1,000 employees. Thus, under this category and the associated small-business size standard, the majority of Other Toll Carriers can be considered small. According to internally developed Commission data, 284 companies reported that their primary telecommunications service activity was the provision of other toll carriage. Of these, an estimated 279 have 1,500 or fewer employees. Consequently, the Commission estimates that most Other Toll Carriers are small entities.

56. Wireless Communications Services. This service can be used for fixed, mobile, radiolocation, and digital audio broadcasting satellite uses. The Commission defined “small business” for the wireless communications services (WCS) auction as an entity with average gross revenues of $40 million for each of the three preceding years, and a “very small business” as an entity with average gross revenues of $15 million for each of the three preceding years. The SBA has approved these small-business size standards.

57. Wireless Telephony. Wireless telephony includes cellular, personal communications services, and specialized mobile radio telephony carriers. The closest applicable SBA category is Wireless Telecommunications Carriers (except Satellite), and under the most appropriate size standard for this category, such a business is small if it has 1,500 or fewer employees. For this industry, U.S. Census Bureau data for 2012 shows that there were 967 firms that operated for the entire year. Of this total, 955 firms had fewer than 1,000 employees and 12 firms had 1,000 employees or more. Thus, under this category and the associated size standard, the Commission estimates that a majority of these entities can be considered small. According to Commission data, 413 carriers reported that they were engaged in wireless telephony. Of these, an estimated 261 have 1,500 or fewer employees and 152 have more than 1,500 employees. Therefore, more than half of these entities can be considered small.

58. All Other Telecommunications. The “All Other Telecommunications” category is comprised of establishments primarily engaged in providing specialized telecommunications services, such as satellite tracking, communications telemetry, and radar station operation. This industry also includes establishments primarily engaged in providing satellite terminal stations and associated facilities connected with one or more terrestrial systems and capable of transmitting telecommunications to, and receiving telecommunications from, satellite systems. Establishments providing internet services or voice over internet protocol (VoIP) services via client-supplied telecommunications connections are also included in this industry. The SBA has developed a small-business size standard for All Other Telecommunications, which consists of all such firms with annual receipts of $ 35 million or less. For this category, U.S. Census Bureau data for 2012 shows that there were 1,442 firms that operated for the entire year. Of those firms, a total of 1,400 had annual receipts less than $25 million and 42 firms had annual receipts of $25 million to $49,999,999. Thus, the Commission estimates that the majority of “All Other Telecommunications” firms potentially affected by our action can be considered small.

D. Description of Projected Reporting, Recordkeeping, and Other Compliance Requirements for Small Entities

59. The Notice proposes a rule to implement 988 as the 3-digit dialing code for a national suicide prevention and mental health crisis hotline within an 18 month timeframe. The proposed rules do not contain any new or additional reporting, recordkeeping, or other compliance obligations.

E. Steps Taken To Minimize the Significant Economic Impact on Small Entities, and Significant Alternatives Considered

60. The RFA requires an agency to describe any significant alternatives that it has considered in reaching its proposed approach, which may include the following four alternatives (among others): (1) The establishment of differing compliance or reporting requirements or timetables that take into account the resources available to small entities; (2) the clarification, consolidation, or simplification of compliance and reporting requirements under the rules for such small entities; (3) the use of performance rather than design standards; and (4) an exemption from coverage of the rule, or any part thereof, for such small entities.

61. In the Notice, the Commission seeks comment on alternatives to the proposals and on alternative ways of implementing the proposals. We expect to take into account the economic impact on small entities, as identified in comments filed in response to the Notice and this IRFA, in reaching our final conclusions and promulgating rules in this proceeding. As discussed in the Notice, the Commission has initiated this proceeding to solicit comments on, among other things, the costs associated with implementing our proposals, namely, the implementation of 988 as the 3-digit dialing code for a national suicide prevention and mental health crisis hotline.

F. Federal Rules That May Duplicate, Overlap, or Conflict With the Proposed Rules

62. None.

III. Procedural Matters

63. Ex Parte Rules. This proceeding shall be treated as a “permit-but-disclose” proceeding in accordance with the Commission's ex parte rules. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with Rule 1.1206(b). In proceedings governed by Rule 1.49(f) or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

64. Initial Regulatory Flexibility Analysis. Pursuant to the Regulatory Flexibility Act (RFA), the Commission has prepared an Initial Regulatory Flexibility Analysis (IRFA) of the possible significant economic impact on small entities of the policies and actions considered in this Notice of Proposed Rulemaking. The text of the IRFA is set forth in Appendix B. Written public comments are requested on this IRFA. Comments must be identified as responses to the IRFA and must be filed by the deadlines for comments on the Notice of Proposed Rulemaking. The Commission's Consumer and Governmental Affairs Bureau, Reference Information Center, will send a copy of the Notice of Proposed Rulemaking, including the IRFA, to the Chief Counsel for Advocacy of the Small Business Administration.

65. Comment Filing Procedures. Pursuant to §§ 1.415 and 1.419 of the Commission's rules, 47 CFR 1.415, 1.419, interested parties may file comments and reply comments on or before the dates indicated on the first page of this document. Comments may be filed using the Commission's Electronic Comment Filing System (ECFS). See Electronic Filing of Documents in Rulemaking Proceedings, 63 FR 24121 (1998).

• Electronic Filers: Comments may be filed electronically using the internet by accessing the ECFS: http://apps.fcc.gov/ecfs/.

• Paper Filers: Parties who choose to file by paper must file an original and one copy of each filing. If more than one docket or rulemaking number appears in the caption of this proceeding, filers must submit two additional copies for each additional docket or rulemaking number.

Filings can be sent by hand or messenger delivery, by commercial overnight courier, or by first-class or overnight U.S. Postal Service mail. All filings must be addressed to the Commission's Secretary, Office of the Secretary, Federal Communications Commission.

• All hand-delivered or messenger-delivered paper filings for the Commission's Secretary must be delivered to FCC Headquarters at 445 12th St. SW, Room TW-A325, Washington, DC 20554. The filing hours are 8:00 a.m. to 7:00 p.m. All hand deliveries must be held together with rubber bands or fasteners. Any envelopes and boxes must be disposed of before entering the building.

• Commercial overnight mail (other than U.S. Postal Service Express Mail and Priority Mail) must be sent to 9050 Junction Drive, Annapolis Junction, MD 20701.

• U.S. Postal Service first-class, Express, and Priority mail must be addressed to 445 12th Street SW, Washington, DC 20554.

66. People With Disabilities: To request materials in accessible formats for people with disabilities (braille, large print, electronic files, audio format), send an email to fcc504@fcc.gov or call the Consumer & Governmental Affairs Bureau at (202) 418-0530 (voice), 202-418-0432 (tty).

67. Paperwork Reduction Act of 1995 Analysis. This document does not contain proposed information collection(s) subject to the Paperwork Reduction Act of 1995 (PRA), Public Law 104-13. In addition, therefore, it does not contain any new or modified information collection burden for small business concerns with fewer than 25 employees, pursuant to the Small Business Paperwork Relief Act of 2002, Public Law 107-198, see 44 U.S.C. 3506(c)(4).

68. Contact Person. For further information about this rulemaking proceeding, please contact Michelle Sclater, Competition Policy Division, Wireline Competition Bureau, at (202) 418-0388 or michelle.sclater@fcc.gov.

IV. Ordering Clauses

69. It is ordered, pursuant to sections 201 and 251 of the Communications Act of 1934, as amended, 47 U.S.C. 201, 251, that the Notice of Proposed Rulemaking in WC Docket No. 18-336 is adopted.

70. It is further ordered that the Commission's Consumer and Governmental Affairs Bureau, Reference Information Center, shall send a copy of this Notice of Proposed Rulemaking, including the Initial Regulatory Flexibility Analysis, to the Chief Counsel for Advocacy of the Small Business Administration.

List of Subjects in 47 CFR Part 52

Communications common carriers, Telecommunications, Telephone.

Federal Communications Commission.
Marlene Dortch,
Secretary.

Proposed Rule

For the reasons discussed in the preamble, the Federal Communications Commission proposes to amend 47 CFR part 52 as follows:

PART 52—NUMBERING

1. The authority citation for part 52 remains as follows:

Authority: 47 U.S.C. 151, 152, 153, 154, 155, 201-205, 207-209, 218, 225-227, 251-252, 271, 332, unless otherwise noted.

2. Amend part 52 by adding subpart E, consisting of § 52.200, to read as follows:

Subpart E—Universal Dialing Code for National Suicide Prevention and Mental Health Crisis Hotline System

Sec.
52.200 Designation of 988.

3. Add § 52.200 to read as follows:

§ 52.200 Designation of 988 for a National Suicide Prevention and Mental Health Crisis Hotline.

(a) Beginning [EFFECTIVE DATE OF FINAL RULE], 988 shall be the 3-digit dialing code for a national suicide prevention and mental health crisis hotline system maintained by the Assistant Secretary for Mental Health and Substance Use and the Secretary of Veterans Affairs.

(b) All telecommunications carriers and interconnected Voice over internet Protocol (VoIP) providers shall transmit all calls initiated by an end user dialing 988 to the current toll free access number for the National Suicide Prevention Lifeline, presently 1-800-273-8255 (TALK).

(c) All telecommunications carriers and interconnected VoIP providers shall complete all changes to their systems that are necessary to implement the designation of the 988 dialing code by [DATE 18 MONTHS AFTER EFFECTIVE DATE OF FINAL RULE].

[FR Doc. 2019-28429 Filed 1-14-20; 8:45 am]

BILLING CODE 6712-01-P